DEPARTMENT OF ENERGY

Notice of Availability of Final Complex Transformation Supplemental Programmatic Environmental Impact Statement

AGENCY: National Nuclear Security Administration, U.S. Department of Energy.

ACTION: Notice of Availability.

SUMMARY: The National Nuclear Security Administration (NNSA), a separately-organized agency within the U.S. Department of Energy (DOE), announces the availability of the Complex Transformation Supplemental Programmatic Environmental Impact Statement (Complex Transformation SPEIS, DOE/EIS-0236-S4). The Complex Transformation SPEIS analyzes the potential environmental impacts of reasonable alternatives to continue transformation of the nuclear weapons complex to be smaller, and more responsive, efficient, and secure in order to meet national security requirements. It is a supplement to the Stockpile Stewardship and Management Programmatic Environmental Impact Statement (SSM PEIS, DOE/EIS-0236). NNSA prepared the SPEIS in accordance with the National Environmental Policy Act (NEPA), the Council on Environmental Quality (CEQ) regulations that implement the procedural provisions of NEPA (40 CFR Parts 1500-1508), and DOE procedures implementing NEPA (10 CFR Part 1021).

DATES: NNSA intends to issue one or more Records of Decision (RODs) based on the Complex Transformation SPEIS thirty or more days after the Environmental Protection Agency (EPA) publishes a notice of availability of the Final Complex Transformation SPEIS in the Federal Register.

ADDRESSES: Requests for additional information on the Complex Transformation SPEIS, including requests for copies of the document, should be directed to: Mr. Theodore A. Wyka, Complex Transformation SPEIS Document Manager, Office of Transformation, NA-141, Department of Energy/NNSA, 1000 Independence Avenue, SW., Washington, DC 20585, toll free 1-800-832-0885 ext. 63519. A request for a copy of the document may also be sent by facsimile to 1-703-931-9222, or by e-mail to complextransformation@nnsa.doe.gov. The Complex Transformation SPEIS and additional information regarding complex transformation are available on the Internet at http://www.ComplexTransformationSPEIS.com and http://www.nnsa.doe.gov. The Complex Transformation SPEIS and referenced documents are available for review at the DOE Reading Rooms and public libraries listed at the end of this notice.

FOR FURTHER INFORMATION CONTACT: For general information on NNSA's proposal, please contact: Mr. Theodore A. Wyka, NA-141, Complex Transformation SPEIS Document Manager, U.S. Department of Energy, National Nuclear Security Administration, 1000 Independence Avenue, SW., Washington, DC 20585, or telephone at 1-800-832-0885 ext. 63519. For general information about the DOE NEPA process contact: Ms. Carol M. Borgstrom, Director, Office of NEPA Policy and Compliance (GC-20), U.S. Department of Energy, 1000 Independence Avenue, SW., Washington, DC 20585, telephone 202-586-4600, or leave a message at 1-800-472-2756. Additional information regarding DOE NEPA activities and access to many of DOE's NEPA documents are available on the Internet through the DOE NEPA Web site at http://www.gc.energy.gov/NEPA.

SUPPLEMENTARY INFORMATION: National security policies require the U.S. DOE, through the NNSA, to maintain the United States' nuclear weapons stockpile,¹ as well as core competencies in nuclear weapons. Since completion in 1996 of the Programmatic Environmental Impact Statement for Stockpile Stewardship and Management (SSM PEIS, DOE/EIS-0236) and associated ROD (61 FR 68014; December 26, 1996), DOE has implemented these policies through the Stockpile Stewardship Program (SSP). The SSP emphasizes development and application of greatly improved scientific and technical capabilities to assess the safety, security, and reliability of existing nuclear warheads without the use of nuclear testing. Throughout the 1990s, DOE also took steps to consolidate the Complex from 12 sites to its current configuration of three national laboratories (plus an associated flight test range), four industrial plants, and a nuclear test site.

¹ The nuclear weapons stockpile consists of nuclear weapons that are both deployed to the military services (“operationally deployed”) and “reserve weapons” that could be used to augment the operationally deployed weapons or to provide replacements for warheads that experience safety or reliability problems.

The Complex Transformation SPEIS evaluates alternatives for continuing transformation of the nuclear weapons complex (Complex) into a smaller, more efficient enterprise that can respond to changing national security challenges. These changes would build upon decisions made in the 1990s following the end of the Cold War and the cessation of nuclear weapons testing.

The SPEIS contains NNSA's responses to comments submitted during the public comment period, which opened on January 11, 2008, and closed on April 30, 2008, as well as changes that were made to the Draft SPEIS as a result of these comments.

The specific alternatives for restructuring special nuclear materials (SNM) ² facilities are divided into two broad categories: Programmatic, which looks at ways to consolidate and modernize manufacturing and SNM activities; and project specific, which look at ways to consolidate and modernize specific research, development, and testing activities. For the programmatic alternatives, NNSA evaluated:

² As defined in section 11 of the Atomic Energy Act of 1954, special nuclear material is: (1) Plutonium, uranium enriched in the isotope 233 or in the isotope 235; or (2) any material artificially enriched by any of the foregoing and any other material which the U.S. Nuclear Regulatory Commission determines to be special nuclear material.

• No Action Alternative: Under the No Action Alternative, NNSA would make no major changes to the SNM missions now assigned to NNSA sites and would continue to implement actions for which NNSA has previously announced its decision in a ROD. With respect to SNM consolidation, ongoing actions to transfer Category I/II ³ SNM from Lawrence Livermore National Laboratory (LLNL) are included within the No Action Alternative.

³ Special nuclear material is categorized into Security Categories I, II, III, and IV based on the type, attractiveness level, and quantity of material. Categories I and II require the highest level of security.

• Programmatic Alternative 1: Distributed Centers of Excellence (DCE). The DCE alternative would locate the three major SNM functional capabilities (plutonium operations, uranium operations, and weapon assembly/disassembly) involving Category I/II quantities of SNM at two or three separate Complex sites. This alternative examines the potential creation of a Consolidated Plutonium Center (CPC) for research and development (R&D), storage, processing, and manufacture of plutonium parts (pits) for the nuclear weapons stockpile. A CPC could consist of new facilities, or modifications to existing facilities at one of the following sites: Los Alamos,⁴ Nevada Test Site (NTS), Pantex, Savannah River Site (SRS), or Y-12. This alternative assumes that highly-enriched uranium and uranium storage, and uranium operations, would continue at Y-12, either at a new Uranium Processing Facility (UPF) or at upgraded, existing facilities. It also assumes that the weapons Assembly/Disassembly/High Explosives (A/D/HE) mission would remain at Pantex.

⁴ In general, when referring to the Los Alamos National Laboratory, the SPEIS refers to this site as “LANL.” The term “Los Alamos” is used to describe this site as an alternative location for a CPC or Consolidated Nuclear Production Center (CNPC).

• Programmatic Alternative 2: Consolidated Centers of Excellence (CCE). Under this alternative, NNSA would consolidate the three major SNM functions (plutonium, uranium, and weapon assembly/disassembly) involving Category I/II quantities of SNM at one or two sites. Two options are assessed: A single site option referred to as the consolidated nuclear production center (CNPC) option, and a two-site option, referred to as the Consolidated Nuclear Center (CNC) option. Under the CNPC option, a new CNPC with facilities dedicated to modernizing plutonium, uranium, and weapon assembly/disassembly operations could be established at Los Alamos, NTS, Pantex, SRS, or Y-12. The SPEIS analyzes the impacts of each of these facilities separately and in combination at all potential locations. Under the CNC option, the plutonium and uranium nuclear component manufacturing missions could be separate from the A/D/HE mission. The A/D/HE functions could remain at Pantex or move to the NTS, while the plutonium and uranium missions could be located at sites different than the A/D/HE function.

• Programmatic Alternative 3: Capability-Based Alternative. Under this alternative, NNSA would maintain a basic capability for manufacturing components for all stockpile weapons, as well as laboratory and experimental capabilities to support the stockpile, while reducing production facilities in-place to the extent that would allow NNSA to produce a nominal level of replacement components (approximately 50 components per year). Pit production capacity at LANL would not be expanded beyond the capability to produce 50 pits per year. Within this alternative, NNSA also considered a No Net Production/Capability-Based Alternative, in which NNSA would maintain capabilities to continue surveillance of the weapons stockpile, produce limited life components, and continue dismantlement. This alternative involves a minimum production (production of 10 sets of components or assembly of 10 weapons per year), within facilities with a larger manufacturing capability.

For the project specific alternatives, NNSA evaluated:

• High Explosives (HE) Research and Development (R&D)

• Tritium R&D

• Flight Test Operations

• Hydrodynamic Testing

• Major Environmental Testing

• Weapons Support Functions at Sandia National Laboratories (SNL), California

Alternatives for each of these project areas generally include: No action, consolidation, and downsizing in place. In the case of Flight Test Operations, NNSA also considered additional alternatives that would relocate Flight Test Operations to either White Sands Missile Range, or the Nevada Test Site.

Preferred Alternatives: In accordance with CEQ regulations at 40 CFR 1502.14(e), NNSA identified the following preferred alternatives in the SPEIS:

Preferred Alternatives for Restructuring SNM Facilities

• Plutonium manufacturing and R&D: Los Alamos would provide a consolidated plutonium research, development, and manufacturing capability within Technical Area-55 (TA-55), enabled by construction and operation of the Chemistry and Metallurgy Research Replacement-Nuclear Facility (CMRR-NF). The CMRR-NF is needed to replace the existing Chemistry and Metallurgy Research (CMR) Facility (a 50-year old facility that has significant safety issues that cannot be addressed in the existing structure), to support movement of plutonium R&D and Category I/II quantities of SNM from LLNL, and consolidate weapons-related plutonium operations at Los Alamos. Until completion of a new Nuclear Posture Review in 2009 or later, the net production at Los Alamos would be limited to a maximum of 20 pits per year. Other national security actinide needs and missions would continue to be supported at TA-55 on a priority basis (e.g., emergency response, material disposition, nuclear energy).

• Uranium manufacturing and R&D: Y-12 would continue as the uranium center producing components and canned subassemblies, and conducting surveillance and dismantlement. NNSA has completed construction of the HEUMF and will consolidate HEU storage in that facility.⁵ NNSA would build a Uranium Processing Facility (UPF) at Y-12 in order to provide a smaller and modern highly-enriched uranium production capability to replace existing 50-year old facilities. The site-specific impacts and candidate locations for a UPF will be analyzed in a new SWEIS for Y-12 that NNSA is currently preparing.

⁵ The environmental impacts at HEUMF and its alternatives are analyzed in the 2001 Y-12 SWEIS (DOE/EIS-0309).

• Assembly/disassembly/high explosives production and manufacturing: Pantex would remain the Assembly/Disassembly/High Explosives production and manufacturing center. NNSA would consolidate non-destructive surveillance operations at Pantex.

• Consolidation of Category I/II SNM: NNSA would continue to transfer Category I/II SNM from LLNL under the No Action Alternative and phase out Category I/II operations at LLNL Superblock by the end of 2012. NNSA would consolidate Category I/II SNM at Pantex within Zone 12, and close Zone 4.

Preferred Alternatives for Restructuring R&D and Testing Facilities

HE R&D: NNSA would reduce the footprint of its HE production and R&D related to nuclear weapons and reduce the number of firing sites. Use of energetic materials (greater than 1 kg) for environmental testing conducted at SNL, New Mexico (SNL/NM) would continue (e.g., acceleration or sled tracks, shock loading, or in explosive tubes) and is not included in HE R&D. NNSA would consolidate weapons HE R&D and testing within the following locations, without constraining transfer and operation of weapons programs firing sites to other NNSA, Department of Defense (DoD), and national security sponsors, as follows:

• Pantex would remain the HE production (formulation, processing, and testing) and machining center. All HE production and machining to develop nuclear explosive packages would continue at Pantex. HE experiments up to 22 kg HE would remain at Pantex;

• NTS would remain the testing center for large quantities of HE (greater than 10 kg);

• LLNL would be the HE R&D center for formulation, processing, and testing (processing capability to handle up to 15 kg and testing less than 10 kg) HE at the High Explosives Applications Facility (HEAF); formulation and processing of HE would be conducted either at a new HEAF Annex built adjacent to HEAF, or at existing Site 300 facilities (but using less space than currently used for these activities);

• SNL/NM would remain the HE R&D center for non-nuclear explosive package components (less than 1 kg of HE) at the Explosive Components Facility (ECF); and

• LANL would produce war reserve main charge detonators, conduct HE R&D experimentation and support activities, and move towards contained HE R&D experimentation.

• Each site would maintain one weapons program open-burn and one open-detonation area for safety and treatment purposes.

Tritium R&D: NNSA would consolidate tritium R&D at SRS. SRS would remain the site for tritium supply management and provide R&D support to production operations and gas transfer system development. Neutron generator target loading at SNL/NM and production of National Ignition Facility targets at LLNL, which involve small quantities of tritium, would continue and would not be included in this consolidation. NNSA would move bulk quantities of tritium from LANL to SRS by 2009; and remove tritium materials above the 30 gram level from the Weapons Engineering Tritium Facility (WETF) at LANL by 2014.

NNSA flight test operations: NNSA would reduce the footprint of Tonopah Test Range, upgrade equipment with mobile capability, and operate in campaign mode. NNSA expects it would not use Category I/II SNM in future flight tests.

Major Hydrodynamic Testing: By the end of fiscal year 2008, NNSA would contain the hydrodynamic testing (consisting of Integrated Weapons Experiments and Focused Experiments) at LLNL at the Contained Firing Facility and at LANL at the Dual-Axis Radiographic Hydrodynamic Test (DARHT) facility. At LANL, firing site operations for weapon programs required by NNSA's hydrodynamic test program would be moved to contained firing. In addition:

• Hydrotesting at LLNL Site 300 would be consolidated to a smaller footprint by 2015.

• The goal is to minimize open-air testing at LANL. Open-air hydrotests at LANL's DARHT, excluding SNM, would only occur if needed to meet national security requirements.

• NNSA would allow open-air firing at LANL TA-36 until adequate radiographic capabilities and associated supporting infrastructure are available for open-air firing at NTS.

Major Environmental Test Facilities: NNSA would consolidate major environmental testing at SNL/NM and, infrequently, conduct operations requiring Category I/II SNM in security campaign mode there. NNSA would close LANL's and LLNL's major environmental testing facilities by 2010 (except those in LLNL Building 334 and the Building 834 Complex). NNSA would move environmental testing of nuclear explosive packages and other functions currently performed in LLNL Buildings 334 and 834 to Pantex by 2012.

Sandia National Laboratories, California Weapons Support Functions: NNSA would continue operations under the No Action Alternative.

As to any other programmatic and project-specific alternatives not mentioned above, NNSA's preferred alternative at this time is to continue with the No Action Alternatives.

NNSA will consider the environmental impact analysis presented in the Complex Transformation SPEIS, along with other information, in making decisions regarding its continuing transformation of the Complex. NNSA intends to issue one or more Records of Decision 30 or more days after EPA publishes a notice of availability of the Final Complex Transformation SPEIS in the Federal Register. It is anticipated that several Records of Decision may be issued based on the Complex Transformation SPEIS over the next several years. NNSA will publish all Records of Decision in the Federal Register. The Complex Transformation SPEIS and referenced documents are available for review at the following DOE Reading Rooms and public libraries:

Lawrence Livermore National Laboratory, Public Reading Room, Discovery Center, Building 6525, Livermore, CA 94550, Phone: (925) 422-3272.

Livermore Public Library, 1188 South Livermore Avenue, Livermore, CA 94550-9315, Phone: (925) 937-5500.

Tracy Public Library, 20 East Eaton Avenue, Tracy, CA 95376, Phone: (209) 937-8221.

Southeastern Power Administration, U.S. Department of Energy, Public Reading Room, 1166 Athens Tech Road, Elberton, GA 30635-6711, Phone: (706) 213-3800.

East-Central Georgia Regional Library, 902 Greene Street, Augusta, GA 30901, Phone: (706) 821-2600.

Central Library, 14 West 10th Street, Kansas City, MO 64105, Phone: (816) 701-3400.

North-East Branch, 6000 Wilson Road, Kansas City, MO 64123, Phone: (816) 701-3485.

Kansas City Site Office, Mid-Continent Public Library, Blue Ridge Branch, 9253 Blue Ridge Boulevard, Kansas City, MO 64138, Phone: (816) 761-3382.

NNSA Nevada Site Office, U.S. Department of Energy, Public Reading Room, 755 East Flamingo Road; Room 103, Las Vegas, NV 89119, Phone: (702) 784-5121.

Office of Repository Development, Bechtel SAIC Company LLC, Reading Room, Science Center, 4101 B Meadows Lane, Las Vegas, NV 89107, Phone: (702) 295-1312.

Las Vegas Library, 833 Las Vegas Boulevard North, Las Vegas, NV 89101, Phone: (702) 507-3500.

Indian Springs Library, 715 Gretta Lane, Indian Springs, NV 89018, Phone: (702) 879-3845.

Beatty Community Library, 400 North 4th Street, Beatty, NV 89003, Phone: (775) 553-2257.

Tonopah Public Library, 167 South Central Street, Tonopah, NV 89049, Phone: (775) 482-3374.

Los Alamos National Laboratory, Public Reading Room, PO Box 1663, Mail Stop M9991, Los Alamos, NM 87545, Phone: (505) 667-0216.

National Nuclear Security Administration Service Center, DOE Reading Room, Government Information Department, Zimmerman Library, University of New Mexico, Albuquerque, NM 87131-1466, Phone: (505) 277-7180.

Mesa Public Library, 2300 Central Avenue, Los Alamos, NM 87544, Phone: (505) 662-8250.

Santa Fe Main Library, 145 Washington Avenue, Santa Fe, NM 87501, Phone: (505) 955-6780.

Socorro Public Library, 401 Park Street, Socorro, NM 87801, Phone: (505) 835-1114.

Savannah River Operations Office, Gregg-Graniteville Library, University of South Carolina-Aiken, 471 University Parkway, Aiken, SC 29801, Phone: (803) 641-3320.

Aiken County Public Library, 314 Chesterfield Street South, Aiken, SC 29801, Phone: (803) 642-2020.

Barnwell County Public Library, 617 Hagood Avenue, Barnwell, SC 29812, Phone: (803) 259-3612.

Oak Ridge Office, DOE Information Center, 475 Oak Ridge Turnpike, Oak Ridge, TN 37830, Phone: (865) 241-4780 or 1 (800) 328-6938, Option 6.

Oak Ridge Public Library, Civic Center, 1401 Oak Ridge Turnpike, Oak Ridge, TN 37830, Phone: (865) 425-3455.

Kingston Public Library, 1004 Bradford Way, Kingston, TN 37763, Phone: (865) 376-9905.

Central Library, 413 E 4th Avenue; Amarillo, TX 79101, Phone: (806) 378-3054.

North Branch, 1500 NE 24th Avenue, Amarillo, TX 79107, Phone: (806) 381-7931.

DOE Reading Room, Lynn Library/Learning Center, Amarillo College, Washington Street Campus, 2201 South Washington Street, Amarillo, Texas, Phone: (806) 371-5400.

Carson County Library, 401 Main Street, Panhandle, Texas 79068, Phone: (806) 537-3742.

U.S. Department of Energy, Freedom of Information Act Reading Room, 1000 Independence Avenue, SW., IE-190, Washington, DC 20585-0001, Phone: (202) 586-5955.

Signed in Washington, DC, this 21st day of October 2008.
Thomas P. D'Agostino,
Administrator, National Nuclear Security Administration.

[FR Doc. E8-25420 Filed 10-23-08; 8:45 am]

BILLING CODE 6450-01-P